POSTAL SERVICE

Board of Governors; Sunshine Act Meeting

FEDERAL REGISTER CITATION OF PREVIOUS ANNOUNCEMENT: 86 FR 40882.

PREVIOUSLY ANNOUNCED TIME AND DATE OF THE MEETING: Thursday, August 5, 2021, at 10:00 a.m.; and Friday, August 6, 2021, at 9:00 a.m.

CHANGES IN THE MEETING: The Postal Service will not hold a public comment period following the open session of this meeting. The Postal Service has decided to continue the suspension of public in-person attendance for the open session of this meeting due to the pandemic. Individuals may listen to the open session of the meeting through a livestream. Details for listening to the livestream are available on the Postal Service's website, https://about.usps.com/who/leadership/board-governors.

CONTACT PERSON FOR MORE INFORMATION: Michael J. Elston, Secretary of the Board, U.S. Postal Service, 475 L'Enfant Plaza SW, Washington, DC 20260-1000. Telephone: (202) 268-4800.

Michael J. Elston,
Secretary.

[FR Doc. 2021-16749 Filed 8-2-21; 4:15 pm]

BILLING CODE 7710-12-P